SMALL BUSINESS ADMINISTRATION

Region VIII Regulatory Fairness Board; Public Federal Regulatory Enforcement Fairness Roundtable

The Small Business Administration Region VIII Regulatory Fairness Board and the SBA Office of the National Ombudsman will hold a Public Roundtable on Tuesday, June 25, 2002 at 8:30 a.m. at the Orthopedic Institute, 810 East 23rd Street, Sioux Falls, South Dakota, to provide small business owners and representatives of trade associations with an opportunity to share information concerning the federal regulatory enforcement and compliance environment.

Anyone wishing to attend or to make a presentation must contact Janice M. Camp in writing or by fax, in order to be put on the agenda. Janice M. Camp, U.S. Small Business Administration, South Dakota District Office, 110 South Phillips Avenue, Suite 200, Sioux Falls, SD 57104, phone (605) 330-4243, ext. 30, fax (605) 330-4215, e-mail: janice.camp@sba.gov. If unable to reach Janice M. Camp, please contact Michele Arends at (605) 330-4243, ext. 11 or at (605) 367-4891, e-mail: michele.arends@sba.gov.

For more information, see our Web site at www.sba.gov/ombudsman.

Dated: June 3, 2002.
Michael L. Barrera,
National Ombudsman.

[FR Doc. 02-15157 Filed 6-14-02; 8:45 am]

BILLING CODE 8025-01-P